DEPARTMENT OF THE INTERIOR

Bureau of Ocean Energy Management

[BOEM-2014-0085; MMAA104000]

Outer Continental Shelf (OCS), 2017-2022 Oil and Gas Leasing Program

AGENCY: Bureau of Ocean Energy Management (BOEM), Interior.

ACTION: Notice of Intent (NOI) to Prepare a Programmatic Environmental Impact Statement (EIS) and Notice of Scoping.

SUMMARY: Consistent with the regulations implementing the National Environmental Policy Act (NEPA), as amended (42 U.S.C. 4321 et seq.), BOEM is announcing its intent to prepare an EIS to inform the decisions that will be taken during the preparation and implementation of the 2017-2022 Oil and Gas Leasing Program (2017-2022 Program). Section 18 of the Outer Continental Shelf (OCS) Lands Act (43 U.S.C. 1344) requires the development of an OCS oil and gas leasing program every five years. The 2017-2022 Program must address the size, timing and location of the lease sales to be held under it. Section 18 also requires a multi-step process of consultation and analysis that must be completed before the Secretary of the Interior may approve a new Program. BOEM initiated the 2017-2022 Program process by issuing a request for information and comments (RFI) in June 2014. The remaining process required by section 18 of the OCS Lands Act includes development of a Draft Proposed Program (DPP), a Proposed Program, a Proposed Final Program (PFP), and Secretarial approval of the 2017-2022 Program.

The EIS is developed in concert with the 2017-2022 Program documents. The EIS will analyze the potential direct, indirect, and cumulative impacts of possible OCS oil and gas activities that could result from lease sales contemplated under the 2017-2022 Program. The scope of the EIS will be based on the DPP after consideration of public input received during the scoping period for the EIS. The DPP includes potential lease sales in the Gulf of Mexico (Western, Central, and a small portion of the Eastern Gulf of Mexico Planning Areas not subject to Congressional moratorium), Atlantic (Mid and South Atlantic Planning Areas), and Alaska (Cook Inlet, Chukchi, and Beaufort Planning Areas) (for details, see the DPP at http://www.boem.gov/Five-Year-Program/).

This notice starts the formal scoping process for the EIS under 40 CFR 1501.7 of the Council on Environmental Quality (CEQ) regulations and solicits input from the public regarding alternatives to the proposed action, impacting factors, environmental resources and issues of concern in the DPP area, and possible mitigating measures that should be evaluated in the EIS. The purpose of scoping is to determine the appropriate content for a focused and balanced programmatic environmental analysis by (a) ensuring significant issues are identified early and properly studied during development of the Programmatic EIS; (b) identifying alternatives, mitigation measures, and analytic tools; and (c) identifying insignificant issues and narrowing the scope of the EIS.

SUPPLEMENTARY INFORMATION: This NOI informs the public about the start of the EIS preparation process and continues information gathering to be done through formal scoping. This NOI is published early in the environmental review process in furtherance of the goals of NEPA. The comments received during public scoping will help frame and inform the content of the EIS. Alternatives may be developed based on scoping comments. In addition to the No Action alternative required by CEQ regulations (i.e., not adopting a new oil and gas leasing program), other alternatives will be considered in the EIS.

On June 16, 2014, BOEM published a RFI concerning the preparation of the 2017-2022 Program. Based on the input received in response to the RFI, BOEM is releasing the DPP concurrently with this NOI. The Draft EIS will be released in about one year from the date of the NOI to coincide with the release of the Proposed Program. Stakeholders are encouraged to go to www.boemoceaninfo.com for additional information about the EIS and the 2017-2022 Program.

Scoping Process: BOEM is aware of many of the key issues, concerns, and potential conflicts to be considered in the EIS for the 2017-2022 Program. Some of these concerns were reflected in responses to the RFI. Additional national and regional issues and concerns may be identified and addressed as a result of input received during the scoping period initiated by this NOI. Therefore, BOEM invites the public to submit comments during the EIS scoping process to assist BOEM in drafting the EIS. We recommend that you provide scientific information, technical data, or anecdotal evidence, etc., to support your comments. Specifically, BOEM seeks focused input, including input in geospatial format as we intend to use geospatial information as much as possible in the EIS analyses. BOEM requests that to the extent possible, geospatial information be provided in .kml, .kmz, or other ESRI-compatible geographic information system format, or through a clearly-drawn image on a map with coordinates. To support this spatially focused scoping process, BOEM invites the public to access our interactive EIS geospatial portal (https://www.csawebmap.com/boemoceaninfo/), a Web site that allows the user to view maps, visualize available data, and identify specific areas of concern. You can then submit any resulting product through www.regulations.gov as an attachment to your comments. We ask that you provide a rationale for any alternatives and demarcate any recommended inclusions, exclusions, or deferrals as clearly as possible. The more specific your comments and information are (e.g. geographic areas, timing, known scientific information, etc.), the more they will assist BOEM to frame the scope of the EIS.

BOEM will also be providing information and the opportunity for public comment at scoping meetings in locations near the BOEM planning areas included in the DPP. BOEM's scoping meetings will be held using an open house format in larger cities, including Anchorage, AK, and a facilitated group format in all other Alaska locations. The open house format allows members of the public to come to a meeting any time during meeting hours at their convenience to view information, discuss the Programmatic EIS and scoping process with BOEM staff, and provide scoping input. In the facilitated group format, each attendee in a group will have opportunity to express input while a BOEM facilitator moderates and helps to focus input. The following scoping meetings are planned for the Programmatic EIS.

• Washington, DC

○ February 9, 2015; Embassy Suites Washington DC Convention Center, 900 10th Street NW., Washington, DC; 2:00-7:00 p.m.; valet parking at no charge to meeting attendees

• Alaska

○ February 9, 2015; Westmark Hotel and Conference Center, 813 Noble Street, Fairbanks, Alaska; 7:00-10:00 p.m.

○ February 11, 2015, Ninilchik School, 15735 Sterling Highway, Ninilchik, Alaska; 7:00-10:00 p.m.

○ February 12, 2015, Kenai Peninsula Borough Assembly Chambers, 144 North Binkley Street, Soldotna, Alaska; 7:00-10:00 p.m.

○ February 16, 2015; Kisik Community Center, 2230 2nd Avenue, Nuiqsut, Alaska; 7:00-10:00 p.m.

○ February 17, 2015; Inupiat Heritage Center, 5421 North Star Street, Barrow, Alaska; 7:00-10:00 p.m.

○ February 18, 2015; Kaktovik Community Center, 2051 Barter Avenue, Kaktovik, Alaska; 7:00-10:00 p.m.

○ February 19, 2015; R. James Community Center, Wainwright, Alaska; 7:00-10:00 p.m.

○ February 23, 2015; Northwest Arctic Borough Assembly Chambers, 163 Lagoon Street, Kotzebue, Alaska; 7:00-10:00 p.m.

○ February 24, 2015; Kali School, 1029 Qasigiakik Street, Point Lay, Alaska; 7:00-10:00 p.m.

○ February 25, 2015; City Qalgi Center, City of Point Hope, Alaska; 7:00-10:00 p.m.

○ March 2, 2015; Anchorage Marriott Downtown, 820 West 7th Avenue, Anchorage, Alaska; 3:00-7:00 p.m.

• Atlantic

○ February 11, 2015; Sheraton Norfolk Waterside, 777 Waterside Drive, Norfolk, Virginia; 3:00-7:00 p.m.; validated participant parking at hotel

○ February 17, 2015; Blockade Runner, 275 Waynick Boulevard, Wilmington, North Carolina; 3:00-7:00 p.m.; free parking

○ February 19, 2015; Hyatt Regency Jacksonville Riverfront, 225 East Coastline Drive, Jacksonville, Florida; 3:00-7:00 p.m.; validated participant parking at hotel

○ March 9, 2015; Loews Annapolis, 126 West Street, Annapolis, Maryland; 3:00-7:00 p.m.; validated participant parking at hotel

○ March 11, 2015; Wyndham Garden Mount Pleasant/Charleston 1330 Stuart Engals Boulevard, Mount Pleasant, SC; 3:00-7:00 p.m.; free parking

• Gulf of Mexico

○ February 23, 2015; Houston Marriott West Loop Hotel, 1750 W. Loop South Freeway, Houston, Texas; 3:00-7:00 p.m.; $5 parking at hotel

○ February 25, 2015; University of New Orleans, Lindy C. Boggs International Conference Center, 2045 Lakeshore Drive, Suite 248, New Orleans, Louisiana; 3:00-7:00 p.m.; free parking

○ February 26, 2015; Mobile Marriott Hotel, 3101 Airport Boulevard, Mobile, Alabama; 3:00-7:00 p.m.; free parking

Cooperating Agencies: BOEM invites other Federal agencies and state, tribal, and local governments to consider becoming cooperating agencies in the preparation of the EIS. Pursuant to CEQ regulations and guidelines, qualified agencies and governments are those with “jurisdiction by law or special expertise.” Potential cooperating agencies and governments should consider their authority and capacity to assume the responsibilities of a cooperating agency and remember that an agency's role as a cooperating agency in the environmental analysis neither enlarges nor diminishes their authority in the NEPA process. BOEM will provide potential cooperating agencies with a written summary of expectations for cooperating agencies, including schedules, milestones, responsibilities, scope and expected detail of cooperating agencies' contributions, and availability of predecisional information. BOEM anticipates this summary will form the basis for a Cooperating Agency Agreement between BOEM and any cooperating agency. Agencies should also consider the “Factors for Determining Cooperating Agency Status” in CEQ's January 30, 2002, Memorandum for the Heads of Federal Agencies: Cooperating Agencies in Implementing the Procedural Requirements of the National Environmental Policy Act. This document is available on the Web site, www.boemoceaninfo.com. BOEM, as lead agency, does not plan to provide financial assistance to cooperating agencies. Even if an organization is not a cooperating agency, opportunities will exist to provide information and comments to BOEM during the normal public input stages of the NEPA process. For further information about cooperating agencies, please contact Mr. Geoffrey L. Wikel at (703) 787-1283.

Public Comment: All interested parties, including Federal, state, tribal, and local governments, and others, may submit written comments on the scope of the EIS, significant issues that should be addressed, alternatives that should be considered, potential mitigation measures, and the types of oil and gas activities of interest (for example, gas in shallow water) in OCS Planning Areas included in the DPP.

Written scoping comments may be submitted in one of the following ways:

1. Mailed in an envelope labeled “Scoping Comments for the 2017-2022 Proposed Oil and Gas Leasing Program Programmatic EIS” and mailed (or hand delivered) to Mr. Geoffrey L. Wikel, Acting Chief, Division of Environmental Assessment, Office of Environmental Program (HM 3107), Bureau of Ocean Energy Management, 381 Elden St. Herndon, VA 20170-4817, telephone (703) 787-1283. Written scoping comments may also be hand delivered at a scoping meeting to the BOEM official in charge.

2. Through the Regulations.gov web portal: Navigate to http://www.regulations.gov and under the Search tab, in the space provided, type in Docket ID: BOEM-2014-0085 to submit comments and to view other comments already submitted. Information on using www.regulations.gov, including instructions for accessing documents, submitting comments, and viewing the docket after the close of the comment period, is available through the links under the box entitled “Are you new to this site?”

3. The Programmatic EIS Web site, www.boemoceaninfo.com, contains program related information, other links, and a geospatial portal you can use to make maps that can then be attached to comments submitted via www.regulations.gov or by mail. Scientific papers, data, and maps can accompany comments as attachments.

Comments that provide scientific information, geospatial or other data, or anecdotal evidence, etc., to support your input are most useful.

It is BOEM practice to make comments, including names and addresses of respondents available for public review. BOEM does not consider anonymous comments. Please include your name and address as part of your submittal. Individual respondents may request that BOEM withhold their names and/or addresses from the public record, but BOEM cannot guarantee that it will be able to do so. If you wish your name and/or address to be withheld, you must state your preference prominently at the beginning of your comment. All submissions from organizations or businesses, and from individuals identifying themselves as representatives or officials of organizations or businesses, will be made available for public inspection in their entirety.

DATES: Comments should be submitted by March 30, 2015 to the address specified above.

FOR FURTHER INFORMATION CONTACT: For information on the 2017-2022 EIS, the submission of comments, or BOEM's policies associated with this notice, please contact Mr. Geoffrey L. Wikel, Acting Chief, Division of Environmental Assessment, Office of Environmental Program, Bureau of Ocean Energy Management (HM 3107), 381 Elden Street, Herndon, VA 20170-4817, telephone (703) 787-1283.

Authority: This NOI to prepare the 2017-2022 EIS is published pursuant to the regulations (40 CFR 1501.7) implementing the provisions of NEPA.

Dated: January 7, 2015.
Abigail Ross Hopper,
Director, Bureau of Ocean Energy Management.

[FR Doc. 2015-01756 Filed 1-28-15; 8:45 am]

BILLING CODE 4310-MR-P